DEPARTMENT OF HOMELAND SECURITY

Coast Guard

33 CFR Part 165

[Docket No. USCG-2023-0475]

Safety Zones; Annual Events in the Captain of the Port Buffalo Zone

AGENCY: Coast Guard, DHS.

ACTION: Notification of enforcement of regulation.

SUMMARY: The Coast Guard will enforce a safety zone for the Cape Vincent French Festival Fireworks to provide for the safety of life on navigable waterways, including the St. Lawrence River, during this event. Our regulation for marine events within the Ninth Coast Guard District identifies the regulated area for this event as the St. Lawrence River, Cape Vincent, NY. During the enforcement period, the operator of any vessel in the regulated area must comply with directions from the Coast Guard Safety Zone Coordinator or any Official Patrol displaying a Coast Guard ensign.

DATES: The regulation in 33 CFR 165.939 will be enforced for the Cape Vincent French Festival Fireworks listed in item b.15 in the table to § 165.939 from 9:15 p.m. through 10:30 p.m., on July 8, 2023.

FOR FURTHER INFORMATION CONTACT: If you have questions about this notification of enforcement, call or email the Marine Event Coordinator, U.S. Coast Guard MSD Massena; telephone 315-769-5483, email SMB-MSDMassena-WaterwaysManagement@uscg.mil.

SUPPLEMENTARY INFORMATION: This Notice of Enforcement is issued under authority of 33 CFR 165.939 and 5 U.S.C. 552(a). The Coast Guard will enforce a safety zone in 33 CFR 165.939 for the Cape Vincent French Festival Fireworks regulated area from 9:15 p.m. through 10:30 p.m. on July 8, 2023. This action is being taken to provide for the safety of life on navigable waterways during this event. Our regulation for marine events within the Ninth Coast Guard District, § 165.939, specifies the location of the regulated area for the French Festival Fireworks which encompasses portions of the St. Lawrence River. During the enforcement period as reflected in § 165.939, if you are the operator of a vessel in the regulated area you must comply with directions from the Coast Guard Safety Zone Coordinator or any Official Patrol displaying a Coast Guard ensign.

In addition to this notification of enforcement in the Federal Register, the Coast Guard plans to provide notification of this enforcement period via the Broadcast Notice to Mariners.

Dated: June 7, 2023.
Mark I. Kuperman,
Captain, U.S. Coast Guard, Captain of the Port Buffalo.

[FR Doc. 2023-12817 Filed 6-14-23; 8:45 am]

BILLING CODE 9110-04-P